DEPARTMENT OF COMMERCE

National Oceanic and Atmospheric Administration

Proposed Information Collection; Comment Request; Evaluations of Coastal Zone Management Act Programs: State Coastal Management Programs and National Estuarine Research Reserves

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 5, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Carrie Hall (240) 533-0730 or carrie.hall@noaa.gov.

SUPPLEMENTARY INFORMATION:

I. Abstract

This request is for revision and extension of a currently approved information collection. A few questions will be rewritten to improve the usefulness of information collected.

The Coastal Zone Management Act of 1972, as amended (CZMA; 16 U.S.C. 1451 et seq.) requires that state coastal management programs and national estuarine research reserves developed pursuant to the CZMA and approved by the Secretary of Commerce be evaluated periodically. This request is for to collect information to accomplish those evaluations.

NOAA's Office for Coastal Management (OCM) conducts periodic evaluations of the 34 coastal management programs and 29 research reserves and produces written findings for each evaluation. OCM has access to documents submitted in cooperative agreement applications, performance reports, and certain documentation required by the CZMA and implementing regulations.

However, additional information from each coastal management program and research reserve, as well as information from the program and reserve partners and stakeholders with whom each works, is necessary to evaluate against statutory and regulatory requirements. Different information collection subsets are necessary for (1) coastal management programs, (2) their partners and stakeholders, (3) research reserves, and (4) their partners and stakeholders.

II. Method of Collection

Coastal program and reserve manager respondents will receive information requests/questionnaires via email, and submittals will be made via email.

Partners and stakeholders of coastal management programs and of reserves will receive a link to a web-based survey tool and respond through the survey tool.

As part of this submission, a few questions will be modified to clarify the information that should be provided as part of the information requests/questionnaires sent to the coastal program and reserve managers. A few questions will be revised to clarify and improve the usefulness of responses for the partners and stakeholders' surveys.

III. Data

OMB Control Number: 0648-0661.

Form Number(s): None.

Type of Review: Regular (revision and extension of a current information collection).

Affected Public: Business or other for-profit organizations; not-for-profit institutions; state, local, or tribal government; federal government.

Estimated Number of Respondents: 209.

Estimated Time per Response: 71 hours per CZMA program manager's evaluation; 15 minutes per partner/stakeholder response.

Estimated Total Annual Burden Hours: 831.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-09159 Filed 5-3-19; 8:45 am]

BILLING CODE 3510-08-P